DEPARTMENT OF TRANSPORTATION

National Highway Traffic Safety Administration

49 CFR Parts 571 and 585

[Docket No. NHTSA-2010-0162]

RIN 2127-AK43

Rear Visibility; Federal Motor Vehicle Safety Standard, Rearview Mirrors; Federal Motor Vehicle Safety Standard, Low-Speed Vehicles; Phase-in Reporting Requirements

AGENCY: National Highway Traffic Safety Administration (NHTSA), Department of Transportation (DOT).

ACTION: Notice of proposed rulemaking; corrections.

SUMMARY: In December 2010, we published a notice of proposed rulemaking proposing to amend the agency's Federal motor vehicle safety standard on rearview mirrors to improve the ability of a driver of a vehicle to detect pedestrians in the area immediately behind the vehicle and thereby minimize the likelihood of the vehicle's striking a pedestrian while the vehicle is moving backward. This document corrects various minor errors regarding metric conversions, section cross references and other matters. In a separate document appearing in today's edition of the Federal Register, the agency reopens the comment period for the proposal and announces plans for holding two public meetings regarding the proposal.

DATES: The corrections made in this document are effective upon publication.

FOR FURTHER INFORMATION CONTACT: For non-legal issues, you may call Mr. Markus Price, Office of Crash Avoidance Standards (Phone: 202-366-0098; Fax: 202-366-7002). For legal issues, you may call Mr. Steve Wood, Assistant Chief Counsel for Vehicle Rulemaking and Harmonization, (Phone: 202-366-2992; FAX: 202-366-3820). You may send mail to these officials at: National Highway Traffic Safety Administration, 1200 New Jersey Avenue, SE., Washington, DC 20590.

SUPPLEMENTARY INFORMATION: On December 7, 2010, NHTSA published in the Federal Register (75 FR 76186) a notice of proposed rulemaking (NPRM) to expand the required field of view for all passenger cars, trucks, multipurpose passenger vehicles, buses, and low-speed vehicles rated at 10,000 pounds or less, gross vehicle weight. Specifically, NHTSA proposed to specify an area immediately behind each vehicle that the driver must be able to see when the vehicle's transmission is in reverse. It appears that, in the near term, the only technology available with the ability to comply with this proposal would be a rear visibility system that includes a rear-mounted video camera and an in-vehicle visual display. Adoption of this proposal would significantly reduce fatalities and injuries caused by backover crashes involving children, persons with disabilities, the elderly, and other pedestrians. This proposal was issued in response to the Cameron Gulbransen Kids Transportation Safety Act of 2007, which directs NHTSA to issue a final rule amending the agency's Federal motor vehicle safety standard on rearview mirrors to improve the ability of a driver to detect pedestrians in the area immediately behind his or her vehicle and thereby minimize the likelihood of a vehicle striking a pedestrian while its driver is backing the vehicle.

We provided a 60-day comment period that ended February 7, 2011. In a separate document appearing elsewhere in today's edition of the Federal Register, the agency reopens the comment period for the proposal and announces plans for holding two public meetings regarding the proposal.

Correction of Errors

In FR Doc. 2010-30353, beginning on page 76186 in the Federal Register of Tuesday, December 7, 2010, the following corrections are made:

1. On page 76187, in the first column, Section VII of the Table of Contents references a subsection “Potential Alternatives”. There is no such subsection; all discussion of alternatives appears in the subsection “Comparison of Regulatory Alternatives”. Correct version of VII of the Table of Contents is:

VII. Proposal to Mandate Improved Rear Visibility

A. Proposed Specifications

i. Improved Rear Field of View

ii. Visual Display Requirements

a. Rearview Image Size

b. Image Response Time

c. Image Linger Time

d. Visual Display Luminance

e. Other Aspects of Visual Display

iii. Requirements for External System Components

B. Proposed Compliance Tests

i. Ambient Lighting Conditions

ii. Rear Visibility Test Object

iii. Rear Visibility Compliance Test Procedures

a. Rear Field of View Test Procedure

b. Rearview Image Size Test Procedure

C. Proposed Effective Date and Phase-In Schedule

D. Summary of Estimated Effectiveness, Costs and Benefits of Available Technologies

E. Comparison of Regulatory Alternatives

i. System Effectiveness

ii. Costs

iii. Benefits

iv. Net Benefits

v. Cost Effectiveness

2. On page 76234, figure 6 is corrected to read as follows:

BILLING CODE 4910-59-P

BILLING CODE 4910-59-C

3. On page 76244, in the third column, the introductory language of S5.5.1.1 references “S14.1 through S14.2.3”. The correct reference is to “S14.1 through S14.3.3”.

4. On page 76245, in the first column, the introductory language of S5.5.1.2 references “S14.1 through S14.2.3”. The correct reference is to “S14.1 through S14.3.3”.

5. On page 76245, in the first column, the introductory language of S5.5.2 references “S14.2.1 through S14.2.3”. The correct reference is to “S14.3.1 through S14.3.3”.

6. On page 76245, in the third column, the third line of S6.2(a) contains the weight figure of “4.536 kg”. The correct weight figure is “4,536 kg”.

7. On page 76245, in the third column, the third line of S6.2(b) contains the weight figure of “4.536 kg”. The correct weight figure is “4,536 kg”.

8. On page 76246, in the first column, the sixth line of S6.2.3.2 contains the weight figure of “4.536 kg”. The correct weight figure is “4,536 kg”.

9. On page 76246, in the first column, the sixth line of S6.2.3.3 contains the weight figure of “4.536 kg”. The correct weight figure is “4,536 kg”.

10. On page 76245, in the third column, the introductory language of S6.2.1.1 references “S14.1 through S14.2.3”. The correct reference is to “S14.1 through S14.3.3”.

11. On page 76245, in the third column, the introductory language of S6.2.1.2 references “S14.1 through S14.2.3”. The correct reference is to “S14.1 through S14.3.3”.

12. On page 76246, in the first column, the introductory language of S6.2.2 references “S14.2.1 through S14.2.3”. The correct reference is to “S14.3.1 through S14.3.3”.

13. On page 76246, in the first column, the introductory language of S6.2.3.2 contains the percentage figure of “33 percent”. The correct percentage is “10 percent”.

14. On page 76246, in the first column, the introductory language of S6.2.3.3 contains the percentage figure of “67 percent”. The correct percentage is “40 percent”.

15. On page 76246, in the third column, the third line of S14.1.4 references “S14.1.5(a) through (d)”. The correct reference is to “S14.1.4(a) through (d)”.

16. On page 76246, in the third column, the first line of S14.1.4(a) references “cylinders G and F”. The correct reference is to “cylinders F and G”.

17. On page 76246, in the third column, the sixth line of S14.1.4(a) references “cylinders E and D”. The correct reference is to “cylinders D and E”.

18. On page 76247, in the first column, the eighth line of S14.1.4(a) contains the distance figure of “0.9 m”. The correct distance figure is “3.05 m”.

19. On page 76247, in the first column, the third line of S14.1.4(c) contains the distance figure “1.5 m”. The correct distance figure is “1.52 m”.

20. On page 76247, in the first column, the fourth line of S14.1.4(c) contains the direction “left”. The correct direction is “right”.

21. On page 76247, in the first column, the third line of S14.1.4(d) contains the distance figure “1.5 m”. The correct distance figure is “1.52 m”.

22. On page 76247, in the first column, the fourth line of S14.1.4(d) contains the direction “right”. The correct direction is “left”.

23. On page 76247, in the third column, the sixth and seventh lines of S14.3.3 contain the temperature range “176° ± 5° F (60° ± 3° C)”. The correct temperature range is “176° ± 5° F (80° ± 3° C)”.

24. On page 76248, Figure 5 is corrected to read as follows:

Issued on: February 24, 2011.
Joseph S. Carra,
Acting Associate Administrator for Rulemaking.

[FR Doc. 2011-4737 Filed 2-28-11; 11:15 am]

BILLING CODE 4910-59-C